OFFICE OF THE UNITED STATES TRADE REPRESENTATIVE

Request for Applications From Individuals Interested in Serving as an Indigenous Peoples' Representative on the Observer Delegation From the United States to the Partnership Council of the Indigenous Peoples Economic and Trade Cooperation Arrangement

AGENCY: Office of the United States Trade Representative.

ACTION: Request for applications.

SUMMARY: The Office of the United States Trade Representative (USTR) has led the United States' efforts on the Indigenous Peoples Economic and Trade Cooperation Arrangement (IPETCA) since the United States became an Observer to the IPETCA Partnership Council—the governing body of IPETCA—in April 2024. USTR is accepting applications from qualified individuals interested in serving a two-year term (with an option to extend for a third year) as an Indigenous Peoples' representative alongside U.S. government representatives on the observer delegation from the United States.

DATES: Submit applications no later than 5 p.m. EST on December 6, 2024.

ADDRESSES: Submit applications to the Office of Intergovernmental Affairs and Public Engagement (IAPE) at mbx.ustr.iape@ustr.eop.gov.

FOR FURTHER INFORMATION CONTACT: Anthony Reyes, IAPE Director and Advisor, at mbx.ustr.iape@ustr.eop.gov or 202.395.2226.

SUPPLEMENTARY INFORMATION:

I. Background

IPETCA is a non-binding arrangement initiated by New Zealand on the margins of its 2021 Asia-Pacific Economic Cooperation (APEC) host year. Participating economies include New Zealand, Australia, Canada and Chinese Taipei. The goal of IPETCA is to establish a framework for facilitating cooperation between participating economies to identify and remove barriers to Indigenous Peoples' economic empowerment and participation in trade. The texts of IPETCA and the IPETCA Partnership Council Terms of Reference are available at: https://www.mfat.govt.nz/en/trade/nz-trade-policy/the-indigenous-peoples-economic-and-trade-cooperation-arrangement.

In response to input during USTR's Tribal consultation meetings and engagement with Indigenous Peoples, the United States became an Observer to the IPETCA Partnership Council in April 2024. The Partnership Council is composed of up to two representatives of each participating economy and up to two Indigenous Peoples' representatives from each participating economy unless decided otherwise. Among other functions, the IPETCA Partnership Council has developed and approved a work program to determine, organize and facilitate activities under the IPETCA and decide the priorities for shared cooperation activities. The Partnership Council also is expected to consider encouraging appropriate multilateral and regional organizations to support projects that enable participation of Indigenous businesses in trade and investment, while emphasizing the important contributions made by Indigenous women-owned businesses in the export of goods and services. The IPETCA Partnership Council is expected to meet four to five times annually, with at least one in-person event (location to be determined) at the call of the co-chairs of the IPETCA Partnership Council or their designee.

II. Requirements To Be an Indigenous Peoples' Representative

The U.S. Trade Representative anticipates appointing up to three people to serve as Indigenous Peoples' representatives on the Observer delegation from the United States to the IPETCA Partnership Council, to represent the interests in international trade policy of Indigenous communities in the United States, including American Indians, Alaska Natives, Native Hawaiians, and Pacific Islanders. USTR is accepting applications from qualified individuals interested in serving a two-year term, with an option to extend for a third year. USTR expects Indigenous Peoples' representatives who participate as part of the Observer delegation from the United States to attend all meetings of the IPETCA Partnership Council. This is expected to include three to four virtual meetings, and one in-person meeting each year. The in-person meeting typically is held on the sidelines of the APEC Economic Leaders Week meetings and will require international travel. USTR may be able to subsidize travel costs associated with in-person meetings of the IPETCA Partnership Council.

The foremost consideration for applicants is their ability to engage with U.S. government representatives to ensure robust participation by Indigenous Peoples in IPETCA meetings and activities, as appropriate. Other criteria include the applicant's knowledge of and expertise in international trade policy, the work of USTR, and economic development relevant to their community. In addition to general trade, investment and development issues, representatives must have expertise in areas such as:

• Understanding barriers to Indigenous Peoples' access to and participation in international trade.

• Identifying possible solutions to better incorporate Indigenous Peoples into U.S. trade policy.

• Developing and presenting actionable recommendations to U.S. government officials.

• Understanding Indigenous government, economies, or business administration.

• Eliminating barriers to equity, equality, and economic opportunity and promoting understanding of the projected impact of proposed trade policies on Indigenous communities in the United States.

The Indigenous Peoples' representatives will serve at the discretion of the U.S. Trade Representative for two-year terms, with an option to extend for a third year. The U.S. Trade Representative may reappoint individuals for any number of terms.

USTR is committed to a trade agenda that advances racial and gender equity, equality and economic empowerment and will seek advice and recommendations on trade policies that enhance resiliency, sustainability and broad-based economic growth. USTR strives to build trusted, sustained lines of communication with those who will be impacted by trade policy decisions in order to better understand the projected impact of proposed trade policies on all communities, including underserved, marginalized and overburdened communities.

USTR strongly encourages diverse backgrounds and perspectives and will make appointments without regard to political affiliation and in accordance with equal opportunity practices that promote diversity, equity, inclusion and accessibility. USTR will strive to ensure balance in terms of points of view, sectors, demographics, geography, entity or organization size, and other factors relevant to USTR's needs.

III. Request for Applications

To apply, an applicant must meet the eligibility criteria described in Section II at the time of application. In addition, an applicant, if selected as an Indigenous Peoples' representative from the United States, will be required at all times during the representative's term of service to comply with the following conditions:

1. They must be a U.S. citizen.

2. They cannot be a full-time employee of a U.S. governmental entity.

3. They cannot be a federally registered lobbyist.

4. They cannot be registered with the U.S. Department of Justice under the Foreign Agents Registration Act.

5. For a representative sponsored by an organization, they must be associated with a U.S. organization whose members (or funders or mission) have a demonstrated interest in issues relevant to Indigenous representation and economies.

6. For eligibility purposes, a ‘U.S. organization’ is an organization established under the laws of the United States, that is controlled by U.S. citizens, by another U.S. organization (or organizations), or by a U.S. entity (or entities), determined based on its board of directors (or comparable governing body), membership and funding sources, as applicable. To qualify as a U.S. organization, more than 50 percent of the board of directors (or comparable governing body) and more than 50 percent of the membership of the organization to be represented must be U.S. citizens, U.S. organizations, or U.S. entities. Additionally, at least 50 percent of the organization's annual revenue must be attributable to nongovernmental U.S. sources.

In order to be considered for appointment as an Indigenous Peoples' representative, qualified individuals should submit the following to the Office of Intergovernmental Affairs and Public Engagement at mbx.ustr.iape@ustr.eop.gov by the December 6, 2024, 5 p.m. EST deadline:

• Name, title, affiliation, and contact information of the applicant.

• The applicant's personal resume.

• A statement explaining how the applicant meets the eligibility criteria, why USTR would benefit from having the applicant on the U.S. Observer delegation, and how the applicant can serve the interests of all Indigenous communities in the United States.

USTR will consider applicants who meet the eligibility criteria in accordance with equal opportunity practices that promote diversity, equity, inclusion and accessibility.

Roberto Soberanis,
Assistant U.S. Trade Representative for Intergovernmental Affairs and Public Engagement, Office of the United States Trade Representative.

[FR Doc. 2024-25111 Filed 10-28-24; 8:45 am]

BILLING CODE 3390-F4-P